DEPARTMENT OF LABOR

Employment and Training Administration

[TA-W-37,211; NAFTA-03584]

Masonite Corporation, Pilot Rock, OR; Dismissal of Application for Reconsideration

Pursuant to 29 CFR 90.18(C) an application for administrative reconsideration was filed with the Director of the Division of Trade Adjustment Assistance for workers at Masonite Corporation, Pilot Rock, Oregon. The application contained no new substantial information which would bear importantly on the Department's determination. Therefore, dismissal of the application was issued.

TA-W-37,211 and NAFTA-03584; Masonite Corporation, Pilot Rock, Oregon (March 28, 2000)

Signed in Washington, D.C. this 29th day of March, 2000.
Grant D. Beale,
Program Manager, Division of Trade Adjustment Assistance.

[FR Doc. 00-8926 Filed 4-10-00; 8:45 am]

BILLING CODE 4510-30-M